DEPARTMENT OF LABOR

Employment and Training Administration

[TA-W-75,056; TA-W-75,056A]

Ericsson Services, Inc., Currently Known as Ericsson, Inc., Service Assurance, Deployment and Integration, and Engineering and IS/IT Divisions, Including On-Site Leased Workers From Brook Consultants, Inc., Cortech LLC, Adex Corporation, American Cybersystems, Inc., Apeiron, Inc., Apex Systems, Inc., ARC Partners, Inc., Avion Systems, Inc., BCI Communications, Inc., Brosna Communications, Collaborative, LLC, Convergenz, LLC, Fusion Solutions, Inc., GCB Services LLC, Global Technology Associates, HCONN, Inc., J.M. Neil and Associates, Inc., JMA Chartered, Makro Technologies, Inc., Multi Services, Inc., Multipoint International, Nexius, Inc., Technisource, Inc., Teksystems, Inc., T-Force, Inc., Thinktel, Inc., United Information Technologies, Wireless Facilities, Inc., Overland Park, KS; Ericsson Services, Inc., Currently Known as Ericsson, Inc., Service Assurance, Deployment and Integration, and Engineering and IS/IT Divisions, Including On-Site Leased Workers From Convergenz, LLC, Kansas City, MO; Amended Certification Regarding Eligibility To Apply for Worker Adjustment Assistance

In accordance with Section 223 of the Trade Act of 1974, as amended (“Act”), 19 U.S.C. 2273, the Department of Labor issued a Certification of Eligibility to Apply for Worker Adjustment Assistance on February 3, 2011, applicable to workers of Ericsson Services, Inc., currently known as Ericsson, Inc., Service Assurance, Deployment and Integration, and Engineering and IS/IT Division, including on-site leased workers from Brook Consultants Inc., Cortech LLC, Adex Corporation, American Cybersystems Inc., Apeiron Inc., Apex Systems Inc., ARC Partners Inc., Avion Systems Inc., BCI Communications Inc., Brosna Communications, Collaborative LLC, Convergenz LLC, Corestaff Services LP, FMHC Corporation, Fusion Solutions Inc., GCB Services LLC, Global Technology Associates, HCONN Inc., J.M. Neil and Associates Inc., JMA Chartered, Makro Technologies Inc., Multi Services Inc., Multipoint International, Nexius Inc., Technisource Inc., Teksystems Inc., T-Force Inc., Thinktel Inc., United Information Technologies, and Wireless Facilities, Inc., Overland Park, Kansas. The workers provide telecommunications services. The notice was published in the Federal Register on February 24, 2011 (76 FR 10399).

At the request of a company official, the Department reviewed the certification for workers of the subject firm.

New information provided by the company confirms that workers at the Kansas City, Missouri location of Ericsson Services, Inc., currently known as Ericsson, Inc., Service Assurance, Deployment and Integration, and Engineering and IS/IT Divisions are part of the same worker group as the group certified under TA-W-75,056. Moreover, worker separations at the Kansas City, Missouri facility are attributable to the same shift of services that was the basis for certification TA-W-75,056.

Based on these findings, the Department is amending this certification to include employees of the Kansas City, Missouri location of Ericsson Services, Inc., currently known as Ericsson, Inc., Service Assurance, Deployment and Integration, and Engineering and IS/IT Division, including on-site leased workers from Convergenz, LLC.

The amended notice applicable to TA-W-75,056 is hereby issued as follows:

All workers of Ericsson Services, Inc., currently known as Ericsson, Inc., Service Assurance, Deployment and Integration, and Engineering and IS/IT Divisions including on-site leased workers from Brook Consultants Inc., Cortech LLC, Adex Corporation, American Cybersystems Inc., Apeiron Inc., Apex Systems Inc., ARC Partners Inc., Avion Systems Inc., BCI Communications Inc., Brosna Communications, Collaborative LLC, Convergenz LLC, Corestaff Services LP, FMHC Corporation, Fusion Solutions Inc., GCB Services LLC, Global Technology Associates, HCONN Inc., J.M. Neil and Associates Inc., JMA Chartered, Makro Technologies Inc., Multi Services Inc., Multipoint International, Nexius, Inc., Technisource Inc., Teksystems Inc., T-Force Inc., Thinktel Inc., United Information Technologies, and Wireless Facilities, Inc. Overland Park, Kansas (TA-W-75,056) and Ericsson Services, Inc., currently known as Ericsson, Inc., Service Assurance, Deployment and Integration, and Engineering and IS/IT Divisions, including on-site leased workers from Convergenz, LLC, Kansas City, Missouri (TA-W-75,056A) who became totally or partially separated from employment on or after December 29, 2009, through February 3, 2013, and all workers in the group threatened with total or partial separation from employment on February 3, 2011 through February 3, 2013, are eligible to apply for adjustment assistance under Chapter 2 of Title II of the Trade Act of 1974, as amended.

Signed in Washington, DC, this 4th day of August, 2011.
Del Min Amy Chen,
Certifying Officer, Office of Trade Adjustment Assistance.

[FR Doc. 2011-21054 Filed 8-17-11; 8:45 am]

BILLING CODE 4510-FN-P